ELECTION ASSISTANCE COMMISSION

Publication of EAC Decision Regarding State Requests To Include Additional Proof-of-Citizenship Instructions on the National Mail Voter Registration Form

AGENCY: U.S. Election Assistance Commission (EAC).

ACTION: Notice.

SUMMARY: The U.S. Election Assistance Commission (EAC) hereby causes to be published in the Federal Register this notice in reference to the Memorandum Of Decision Concerning State Requests To Include Additional Proof-Of-Citizenship Instructions On The National Mail Voter Registration Form (Docket No. Eac 2013 0004). The decision, issued January 17, 2014, is posted on the EAC Web site at www.eac.gov (shortened link: http://1.usa.gov/1mdWASw), and also on the Federal eRulemaking portal, www.regulations.gov, at the following link: http://www.regulations.gov/#!documentDetail;D=EAC-2013-0004-0429. Arizona, Georgia, and Kansas had sought to modify the state-specific instructions on the National Mail Voter Registration Form (“Federal Form”) to require that, as a precondition to registering to vote in Federal elections in those states, applicants must provide additional proof of their United States citizenship beyond that currently required by the Federal Form. For the reasons set forth in the decision, the Commission denied the states' requests.

DATES: This notice is effective upon publication in the Federal Register.

FOR FURTHER INFORMATION CONTACT: Bryan Whitener, Telephone 301-563-3919 or 1-866-747-1471 (toll-free).

SUPPLEMENTARY INFORMATION:

Background: The EAC's decision followed a Federal court order in a lawsuit brought by Kansas and Arizona challenging the EAC's earlier deferral of a decision on those states' requests to modify the Federal Form's state-specific instructions. See Kobach v. EAC, No. 5:13-cv-4095 (D. Kan. Dec. 13, 2013). The district court directed the Commission to take final action on Kansas's and Arizona's requests by January 17, 2014. Because Georgia's request presented similar issues, the EAC also decided to take final action on that request. Before issuing its decision, the EAC solicited public comment on all three states' requests, see 78 Fed. Reg. 77666-67 (Dec. 24, 2013), and reviewed and considered all comments received.

Dated: February 4, 2014.
Alice Miller,
Chief Operating Officer and Acting Executive Director, U.S. Election Assistance Commission.

[FR Doc. 2014-02691 Filed 2-6-14; 8:45 am]

BILLING CODE 6820-KF-P